DEPARTMENT OF AGRICULTURE

Forest Service

Notice of Proposed Administrative Settlement Agreement and Order on Consent for Removal Action, Nacimiento Mine Site, Santa Fe National Forest, New Mexico

AGENCY: Forest Service, Agriculture (USDA).

ACTION: Notice of settlement; request for comment.

SUMMARY: In accordance with the Comprehensive Environmental Response, Compensation and Liability Act of 1980, as amended (CERCLA), notice is hereby given of a proposed Administrative Settlement Agreement and Order on Consent (ASAOC), between the United States Department of Agriculture Forest Service (Forest Service) and Williams Express LLC (Williams), regarding the Nacimiento Mine Site located on the Santa Fe National Forest near Cuba, New Mexico. The property that is the subject of this proposed ASAOC are areas where hazardous substances and/or pollutants or contaminants are located on the surface features of the federally-owned portion of the Site designated as Operable Unit 1 (OU1).

DATES: Comments must be received in writing by April 18, 2022.

ADDRESSES: The proposed settlement and additional background information relating to the settlement are available for public inspection at the offices of the United States Department of Agriculture, Forest Service, Southwestern Regional Office, 333 Broadway SE, Albuquerque, NM 87102, or from Kirk M. Minckler with USDA's Office of the General Counsel, email: kirk.minckler@usda.gov, phone: (303) 275-5549. Comments should reference the Nacimiento Mine, Santa Fe National Forest, Sandoval County, New Mexico, and should be addressed to Kirk M. Minckler, USDA Office of the General Counsel, 1617 Cole Boulevard, Suite 385E, Lakewood, Colorado 80401-3305.

The United States' response to any comments received will be available for public inspection at the USDA, Office of General Counsel, Mountain Region, 1617 Cole Boulevard, Suite 385E, Lakewood, Colorado 80401, and at the Forest Service's Southwestern Regional Office, 333 Broadway SE, Albuquerque, NM 87102.

FOR FURTHER INFORMATION CONTACT:

Technical information: Steven J. McDonald, USDA Forest Service Southwestern Region, 333 Broadway SE, Albuquerque, NM 87102; phone: 505-842-3838, email: steven.mcdonald@usda.gov.

Legal information: Kirk M. Minckler, USDA Office of the General Counsel, 1617 Cole Boulevard, Suite 385E, Lakewood, Colorado 80401-3305; phone (303) 275-5549, Fax: (303) 275-5557; email: kirk.minckler@usda.gov.

Individuals who use telecommunications devices for the deaf or hard of hearing (TDD) may call the Federal Relay Service (FRS) at 800-877-8339 24 hours a day, every day of the year, including holidays.

SUPPLEMENTARY INFORMATION: The proposed ASAOC between the Forest Service and Williams, in accordance with Section 122(i) of CERCLA, as amended, 42 U.S.C. 9622(i) under Sections 104, 107 and 122, requires Williams to perform a Removal Action necessary to implement the selected cleanup alternative involving mining waste piles and other surface features located on the federally owned portion of OU1 at the Site. The performance of this work must be approved and monitored by the Forest Service. Also, under the proposed ASAOC, Williams will reimburse the Forest Service's inspections, monitoring, and maintenance costs related to the Removal Action as Future Response Costs.

For thirty (30) days following the date of publication of this notice, the United States will receive written comments relating to the ASAOC. The United States will consider all comments received and may modify or withdraw its consent to the ASAOC if comments received disclose facts or considerations that indicate that the settlement is inappropriate, improper, or inadequate.

Dated: March 15, 2022.
Kerwin S. Dewberry,
Acting Deputy Regional Forester, Southwestern Region.

[FR Doc. 2022-05787 Filed 3-17-22; 8:45 am]

BILLING CODE 3411-15-P